DEPARTMENT OF JUSTICE

Notice of Lodging of Consent Decree Under the Clean Water Act

Under 28 CFR 50.7, notice is hereby given that on November 6, 2009, a proposed Consent Decree in United States and State of Tennessee v. John Wieland Homes and Neighborhoods, Inc. et al., Civil Action No. 3:09-cv-01066, was lodged with the United States District Court for the Middle District of Tennessee, Nashville Division.

The Decree resolves the claims of the United States and the State of Tennessee against John Wieland Homes and Neighborhoods, Inc. and John Wieland Homes and Neighborhoods of the Carolinas, Inc. (collectively, “Wieland”) for violations of the Federal Clean Water Act and State law at Wieland's residential housing developments in North Carolina, South Carolina, Georgia and Tennessee. Under the proposed Decree, Wieland will undertake a compliance program consisting of, among other things: Inspections, training, and enhanced recordkeeping to reduce discharges of storm water from its developments. Wieland will also pay a civil penalty of $350,000.00, to be shared between the United States and the State of Tennessee.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should refer to the Consent Decree between the United States, the State of Tennessee and Wieland, DOJ Ref. No. 90-5-1-1-08419.

The Decree may be examined at EPA's Region 4 office, 61 Forsyth Street, Atlanta, Georgia and at the office of the United States Attorney for the Middle District of Tennessee, 110 Ninth Avenue South, Suite A961, Nashville, Tennessee. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ 75.25 (25 cents per page reproduction cost) (including Appendices) or $13.00 (excluding Appendices) payable to the U.S. Treasury or, if by e-mail or fax, forward a check in that amount to the Consent Decree Library at the stated address.

Maureen Katz,
Assistant Section Chief, Environmental Enforcement Section, Environment and Natural Resources Division.

[FR Doc. E9-27303 Filed 11-12-09; 8:45 am]

BILLING CODE 4410-15-P